DEPARTMENT OF JUSTICE

Antitrust Division

Notice Pursuant to the National Cooperative Research and Production Act of 1993—Petroleum Environmental Research Forum Project No. 2007-05, Membrane Bioreactor Demonstration

Notice is hereby given that, on February 26, 2009, pursuant to Section 6(a) of the National Cooperative Research and Production Act of 1993, 15 U.S.C. 4301 et seq. (“the Act”) Petroleum Environmental Research Forum Project No. 2007-05, Membrane Bioreactor Demonstration (“PERF Project No. 2007-05”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: ExxonMobil Research and Engineering Company, Fairfax, VA; BP Products North America Inc., Naperville, IL; Chevron Energy Technology Company, Richmond, CA; ConocoPhillips Company, Houston, TX; Repsol YPF S.A., Madrid, SPAIN; and Shell Global Solutions (US) Inc., Houston, TX. The general area of PERF Project No. 2007-05's planned activity is to, through cooperative research efforts, evaluate membrane bioreactor (MBR) technology as a competitive alternate to conventional activated sludge system (aeration basin and clarifier). This will be done by conducting pilot scale testing of a MBR system to treat refinery wastewater alongside conventional biological treatment. This setup will allow a quality comparison to be conducted. Preferably, both normal conditions as well as various upset conditions will be evaluated. Simulated upset conditions to be considered may include oil & grease upsets and possibly pH swing, high organic or nitrogen loading, and excessive debris or other solids that could potentially foul membrane. Current plans are that effluent from the MER will be analyzed for potential recycle/reuse applications (e.g., cooling tower makeup). The project will attempt to determine if this wastewater treatment technology is comparable or superior in operability and effluent quality to conventional biological treatment. Information regarding participation in this venture may be obtained from: Mr. Ryan Couture; ExxonMobil Research and Engineering Company; 3225 Gallows Road; Fairfax, VA 22037.

Patricia A. Brink,
Deputy Director of Operations, Antitrust Division.

[FR Doc. E9-7366 Filed 4-2-09; 8:45 am]

BILLING CODE 4410-11-M